OFFICE OF MANAGEMENT AND BUDGET

Methods and Leading Practices for Advancing Equity and Support for Underserved Communities Through Government

AGENCY: Office of Management and Budget, Executive Office of the President.

ACTION: Request for Information (RFI).

SUMMARY: Recent Executive Orders have charged the Office of Management and Budget (OMB), in partnership with the heads of agencies, to identify, by July 2021, effective methods for assessing whether agency policies and actions (e.g., programs, services, processes, and operations) equitably serve all eligible individuals and communities, particularly those that are currently and historically underserved. As part of this effort, agencies are directed to consult with members of communities that have been historically underrepresented in the Federal Government and underserved by, or subject to discrimination in, Federal policies and programs, and to evaluate opportunities, as allowable, to increase coordination, communication, and engagement with community-based and civil rights organizations. Through this request for information (RFI), OMB seeks input, information, and recommendations from a broad array of stakeholders in the public, private, advocacy, not-for-profit, and philanthropic sectors, including State, local, Tribal, and territorial areas, on available methods, approaches, and tools that could assist in this effort. OMB will consider the usability, applicability, and rigor of submissions in response to this RFI as OMB gathers resources to support agencies as they conduct internal assessments on the state of equity in their policies, programs, services, processes, and operations. OMB will also use what it learns from responses to this RFI as OMB works to expand use of equity-assessment methods and approaches across the Federal Government, as agencies develop agency Equity Action Plans (due to the Domestic Policy Council by January 19, 2022) outlining steps they will take to address identified gaps in equity.

DATES: Responses to this RFI should be received by July 6, 2021.

ADDRESSES: You should submit comments via the Federal eRulemaking Portal at https://www.regulations.gov/. Follow the instructions for submitting comments. All public comments received are subject to the Freedom of Information Act and will be posted in their entirety at https://www.regulations.gov/, including any personal and/or business confidential information provided. Do not include any information you would not like to be made publicly available.

Written responses should not exceed 20 pages, inclusive of a 1-page cover page as described below. Attachments or linked resources or documents are not included in the 20-page limit. Please respond concisely, in plain language, and in narrative format. You may respond to some or all of the questions listed in the RFI. Please ensure it is clear which question you are responding to. You may also include links to online material or interactive presentations but please ensure all links are publicly available. Each response should include:

• The name of the individual(s) and/or organization responding.

• The Area section(s) (1, 2, 3, 4 and/or 5) that your submission and materials support.

• A brief description of the responding individual(s) or organization's mission and/or areas of expertise, including any public-private partnerships with Federal, State, tribal, territorial, or local governments within the past three years that are relevant to this RFI.

• A contact for questions or other follow-up on your response.

By responding to the RFI, each participant (individual, team, or legal entity) warrants that they are the sole author or owner of, or has the right to use, any copyrightable works that the Submission comprises, that the works are wholly original (or is an improved version of an existing work that the participant has sufficient rights to use and improve), and that the Submission does not infringe any copyright or any other rights of any third party of which participant is aware.

By responding to the RFI, each participant (individual, team, or legal entity) consents to the contents of their submission being made available to all Federal agencies and their employees on an internal-to-government website accessible only to agency staffpersons.

Participants will not be required to transfer their intellectual property rights to OMB, but Participants must grant to the Federal government a nonexclusive license to apply, share, and use the materials that are included in the Submission. To participate in the RFI, each participant must warrant that there are no legal obstacles to providing the above-referenced nonexclusive licenses of participant rights to the Federal government.

Interested parties who respond to this RFI may be contacted for a follow-on strategic agency assessment dialogue, discussion, event, crowdsource campaign, or competition.

FOR FURTHER INFORMATION CONTACT: Issues regarding submission or questions on this RFI can be sent to Amira Boland at 202-395-5222 or to equityRFI@omb.eop.gov.

SUPPLEMENTARY INFORMATION:

I. Background

E.O. 13985 states: “Equal opportunity is the bedrock of American democracy, and our diversity is one of our country's greatest strengths. But for too many, the American Dream remains out of reach. Entrenched disparities in our laws and public policies, and in our public and private institutions, have often denied that equal opportunity to individuals and communities. Our country faces converging economic, health, and climate crises that have exposed and exacerbated inequities, while a historic movement for justice has highlighted the unbearable human costs of systemic racism. Our Nation deserves an ambitious whole-of-government equity agenda that matches the scale of the opportunities and challenges that we face.

It is therefore the policy of my Administration that the Federal Government should pursue a comprehensive approach to advancing equity for all, including people of color and others who have been historically underserved, marginalized, and adversely affected by persistent poverty and inequality. Affirmatively advancing equity, civil rights, racial justice, and equal opportunity is the responsibility of the whole of our Government. Because advancing equity requires a systematic approach to embedding fairness in decision-making processes, executive departments and agencies (agencies) must recognize and work to redress inequities in their policies and programs that serve as barriers to equal opportunity.”

Within 200 days of the date of the E.O. (by August 8, 2021), agencies must submit to the Assistant to the President for Domestic Policy an assessment of the state of equity for underserved communities and individuals, including on the following points, for example:

• Barriers that underserved communities and individuals may face to enrollment in and access to benefits and services in Federal programs;

• Barriers that underserved communities and individuals may face in participation in agency procurement and contracting opportunities;

• Barriers that underserved communities and individuals may face in participation in agency grant programs and other forms of financial assistance;

• Opportunities in current agency policies, regulations, and guidance to address affirmatively and equitably the underlying causes of systemic inequities in society;

• Opportunities in agency community engagement processes to engage with and empower marginalized, vulnerable, or underserved communities more directly to advance equitable policymaking; and

• The operational status and level of institutional resources available to agency offices or divisions responsible for advancing civil rights or required to serve underrepresented or disadvantaged communities.

Within one year of the date of E.O. 13985 (by January 19, 2022), the head of each agency will develop a plan for addressing any barriers to full and equal participation in programs and procurement opportunities identified in its assessment. Such a plan could include establishing ongoing routines to assess and rectify gaps in full and equal participation in programs and procurement opportunities.

E.O. 13985 uses the following definitions, which OMB adopts for purposes of this RFI.

The term “equity” means the consistent and systematic fair, just, and impartial treatment of all individuals, including individuals who belong to underserved communities that have been denied such treatment, such as women and girls; Black, Latino, and Indigenous and Native American persons, Asian Americans and Pacific Islanders and other persons of color; persons facing discrimination or barriers on account of gender identity; members of religious minorities; lesbian, gay, bisexual, transgender, and queer (LGBTQ+) persons; persons with disabilities; persons who live in rural areas; and persons otherwise adversely affected by persistent poverty or inequality.

The term “underserved communities” refers to populations sharing a particular characteristic, as well as geographic communities, that have been systematically denied a full opportunity to participate in aspects of economic, social, and civic life, as exemplified by the list in the preceding definition of “equity.”

Information and Key Questions

OMB seeks input in the following areas:

1. Equity Assessments and Strategies. Approaches and methods for holistic and program- or policy-specific assessments of equity for public sector entities, including but not limited to the development of public policy strategies that advance equity and the use of data to inform equitable public policy strategies.

2. Barrier and Burden Reduction. Approaches and methods for assessing and remedying barriers, burden, and inequities in public service delivery and access.

3. Procurement and Contracting. Approaches and methods for assessing equity in agency procurement and contracting processes.

4. Financial Assistance. Approaches and methods for assessing equity in the administration of agency grant programs and other forms of financial assistance.

5. Stakeholder and Community Engagement. Approaches and methods for accessible and meaningful agency engagement with underserved communities.

The descriptions below represent a non-exhaustive accounting of issues that may fall under each topic area. These may assist in the formulation of comments. The list is not intended to restrict submissions. For all prompts, OMB requests that commenters incorporate examples, data, and, in particular, research or academic literature whenever possible.

For Area 1 on equity assessments and strategies:

The work of advancing equity requires a holistic assessment of agency practices and policies. Some Federal agencies will need to implement new approaches to assess whether future proposed policies, budgets, regulations, grants, or programs will be effective in advancing equity. OMB welcomes submissions that provide resources, tools, and examples of how agencies might conduct effective equity assessments, with the goal of embedding equity throughout agency practices and policies. Submissions might consider questions such as:

• What are some promising methods and strategies for assessing equity in internal agency practices and policies? What knowledge, skills, or supports do practitioners need to use such tools effectively?

• What are some promising methods and strategies for identifying systemic inequities to be addressed by agency policy?

• Jurisdictions at the State, local, Tribal, and territorial level have implemented equity assessment tools to inform their policymaking, budgetary, or regulatory processes. What are the lessons these jurisdictions have learned from implementing or interacting with those tools?

• What are some promising methods and strategies for advancing equity on urgent or immediate agency priorities?

• What types of equity assessment tools are especially useful for agencies with national security, foreign policy or law enforcement missions?

• How might agencies collect data and build evidence in appropriate and protected ways to reflect underserved individuals and communities and support greater attention to equity in future policymaking?

• How might agencies build capacity and provide training and support for teams conducting this work?

• How can community engagement or feedback from underserved individuals with lived expertise on a given policy problem be integrated meaningfully in an agency's use of equity assessment methods?

For Area 2 on barrier and burden reduction:

Members of underserved communities may experience a variety of external factors that may disproportionately affect their access to information about programs or program eligibility, applying for benefits, conducting post-award reporting, and recertification of eligibility. These barriers may include, but are not limited to: Non-traditional or inflexible work hours, childcare needs, housing insecurity, limited transportation access, limited proficiency in English, disability, low literacy, income or other resource constraints, stigma in accessing public programs, and limited access to technology.

Other barriers are internal to the administration of programs. While certain program rules may ensure that benefits are awarded to eligible individuals or are otherwise required by law, others are not necessary for ensuring benefits are awarded to eligible individuals and may be remedied via administrative or regulatory changes. The latter category of program rules may include: Unnecessary questions or requirements to produce documentation; complex eligibility formulas; forms or web applications that are confusingly designed; complicated instructions; long delays between application and adjudication; the need for third-party (e.g., advocacy organization, legal counsel) support or consultation; frequent recertification of eligibility; processes that require multiple forms or touch-points; and duplicative or similar information collections by multiple agencies.

Responses should include, but not be limited to, information on any or all of the following points:

• How can agencies address known burdens or barriers to accessing benefits programs in their assessments of benefits delivery?

• What data, tools, or evidence are available to show how particular underserved communities or populations disproportionately encounter these barriers? Which underserved communities experience multiple, cumulative barriers and are disproportionately burdened by specific administrative processes or requirements?

• Are there specific requirements or processes (e.g., in-person visits, frequency of recertification of eligibility) that have been shown in rigorous research to cause program drop-off or churn by underserved individuals and communities? Similarly, is there rigorous evidence available that certain requirements or processes have little actual effect on program integrity?

• How could agencies incorporate considerations of the psychological costs of qualifying or applying for Federal benefits programs into their assessments of equitable service delivery?

• What kinds of equity assessment tools are more useful for addressing urgent agency priorities versus making systemic change?

• What types of overarching metrics (e.g., program uptake, over- or under-payments) might an agency use to measure a benefit program's outcomes [or whether it is implemented as intended?]?

• How might an agency assess or balance prioritization of potentially competing values associated with program administration, such as program uptake, program integrity, privacy protection, and resource constraints, in the context of addressing equity for underserved individuals and communities?

• How might agencies assess if specific barriers (e.g., specific questions on forms or requirements such as in-person interviews) are achieving their intended purpose?

• How might agencies incorporate into their equity assessments barriers or duplicative burdens a participant is likely to experience when seeking services from multiple agencies?

• How can agencies best balance collecting demographic information about program applicants and participants with the potential effect on program participation that these questions may cause? What does rigorous research show about the effect of demographic questions on program participation?

For Area 3, on procurement and contracting:

The Federal Government is the world's largest purchaser of goods and services, with acquisitions totaling over $650 billion per year. As the Federal Government's purchasing power is used to fight COVID-19, increase domestic productivity, combat climate change, and address other Administration priorities, agencies will need to assess opportunities to invest in underserved individuals and communities by promoting business diversity (including, but not limited to, professional services, financial services, and technology) and resiliency. Agencies will need to assess opportunities to direct more procurement and contracting dollars to underserved individuals and communities so that a broad cross-section of American businesses can share in the jobs and opportunities created by Federal buying activities. Economic research shows that investing in underserved communities and closing racial wealth gaps yields economic growth and job creation that benefits all Americans.

OMB welcomes submissions that address questions such as:

• How do we achieve equity in a procurement system that must balance competing economic and social goals, including the need to conduct procurements in a streamlined and rapid manner?

• What kinds of equity assessment tools might agencies use to identify inequity in their standard practices throughout the acquisition lifecycle, including, but not limited to, the development of requirements, market research (including outreach to businesses), selection of contract type, availability of financing, incentive structure, negotiation and evaluation of interested sources, debriefings of unsuccessful offerors, management of contracts, evaluation of contractor performance, and use of past performance in selection of sources?

• What kinds of tools might agencies use to determine when there is inequity in the award of subcontracts under prime contracts and the cause of such?

• How might agencies identify opportunities to engage with business owners and entrepreneurs who are members of underserved communities to promote doing business with the Federal Government? What kinds of training and capacity building within agency teams would support equitable procurement and contracting efforts?

• What kinds of benchmarks and assessment techniques might support equitable procurement and contracting efforts?

• What kinds of data should agencies collect and use to assess equity in their procurement practices?

For Area 4, financial assistance:

Federal agencies run financial assistance programs, including grant opportunities, that have the potential, and in many cases, a stated intent, to channel resources to underserved communities. OMB welcomes submissions that address questions such as:

• How might agencies identify opportunities to adjust current practices in grants and other financial assistance programs to expand access for underserved communities and to achieve equity-oriented results? What are some promising approaches to the award and administration of Federal awards (including, for example, the integration of program planning and design) that should be considered?

• What are promising practices for equitable grantmaking and the administration of financial assistance programs that agencies should consider in the course of their equity assessments?

• How might agencies engage in outreach and stakeholder engagement to identify opportunities to make Federal grants and other financial assistance processes more accessible?

• What kinds of training and capacity building within agencies would support equitable grantmaking and financial assistance efforts?

• What kinds of benchmarks and assessment techniques would support equitable grantmaking and financial assistance efforts?

• What kinds of data should agencies collect and use to assess equity in their grantmaking and financial assistance practices?

For Area 5, on stakeholder and community engagement:

Section 8 of E.O. 13985 instructs agencies to expand their use of stakeholder and community engagement in carrying out the Order. OMB seeks specific approaches to stakeholder and community engagement with underserved communities that others have successfully used and that Federal agencies could adapt or apply.

Accordingly, OMB welcomes submissions that address questions such as:

• What processes should agencies have in place to engage proactively with the underserved individuals and communities that will be most affected by agency programs, policies, rules, processes, or operations? How can agencies design and implement community engagement practices that are accessible to underserved communities? How might affected communities be engaged pro-actively and early to shape agency policy priorities and strategies?

• What tools and best practices might agencies deploy to establish advisory boards, task forces, and commissions that are inclusive of underserved communities?

• How can an agency assess the accessibility of the agency's rulemaking and policymaking commenting and engagement processes, including for individuals that experience barriers to participation? Examples of barriers may include limited language access assistance, online-only engagement, and minimal proactive notification of opportunities to provide comment.

• Do feedback mechanisms for customers, beneficiaries, and communities affected by Government programs exist to inform policy research and evaluation processes? If so, are these feedback mechanisms accessible to underserved communities? If not, what are best practices that agencies should consider?

• What tools could agencies develop for expanding stakeholder input into programmatic and regulatory changes to minimize barriers and burden? How may existing processes (e.g., notice and comment on information collections) be enhanced to improve accessibility by stakeholders?

• What tools can agency offices, including communications, civic engagement, enforcement, and policymaking offices, use to better engage or reach underserved communities?

• What are some of the barriers or factors that challenge underserved communities' interactions with Federal agencies and programs?

• What practices should agencies put in place to reach underserved communities in rural areas or underserved communities that otherwise are not able to visit Washington, DC, to engage with policymakers?

Shalanda Young,
Acting Director, Office of Management and Budget.

[FR Doc. 2021-09109 Filed 5-4-21; 8:45 am]

BILLING CODE 3110-01-P